DEPARTMENT OF HEALTH AND HUMAN SERVICES

National Institutes of Health

Center for Scientific Review; Amended Notice of Meeting

Notice is hereby given of a change in the meeting of the Center for Scientific Review Special Emphasis Panel, Review of Neuroscience AREA Grant Applications, October 24, 2013, 08:00 a.m. to October 25, 2013, 12:00 p.m., St. Gregory Hotel, 2033 M Street NW., Washington, DC 20036, which was published in the Federal Register on October 01, 2013, 78 FR 60298.

The meeting will be held on December 9, 2013 to December 10, 2013. The meeting location and time remain the same. The meeting is closed to the public.

Dated: November 1, 2013.
Anna Snouffer,
Deputy Director, Office of Federal Advisory Committee Policy.

[FR Doc. 2013-26751 Filed 11-7-13; 8:45 am]

BILLING CODE 4140-01-P